DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug and Alcohol Services Information System (DASIS)—(OMB No. 0930-0106)—Revision

The DASIS consists of three related data systems: the Inventory of Substance Abuse Treatment Services (I-SATS ); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment.

The request for OMB approval will include several changes to the 2006 N-SSATS questionnaire, including: modification of the treatment categories to better reflect the practices and terminology currently used in the treatment field; modification of the detoxification question, including the addition of a follow-up question on whether the facility uses drugs in detoxification and for which substances; the addition of nicotine replacement therapy and psychiatric medications to the pharmacotherapies list; the addition of questions on treatment approaches and behavioral interventions; the addition of new services to the list of services provided; the addition of a question on quality control procedures used by the facility; and, the addition of a question on whether the facility accepts Access to Recovery (ATR) vouchers and how many annual admissions were funded by ATR vouchers. The remaining sections of the N-SSATS questionnaire will remain unchanged except for minor modifications to wording. The OMB request will also include the addition of several new data elements to the TEDS client-level record. To the extent that states already collect the elements from their treatment providers, the following elements will be included in the TEDS data collection: number of arrests, substances used at discharge, employment at discharge, and living arrangement at discharge. The additional data elements are being requested by the Center for Substance Abuse Treatment, SAMHSA, for use in estimating national treatment outcomes. No significant changes are expected in the other DASIS activities.

Estimated annual burden for the DASIS activities is shown below:

Type of respondent and activity | Number of respondents | Hours per respondent | Hours per response | Total burden hours
STATES:
TEDS Admission Data | 52 | 4 | 6 | 1,248
TEDS Discharge Data | 40 | 4 | 8 | 1,280
TEDS Discharge Crosswalks | 5 | 1 | 10 | 50
I-SATS Update¹ | 56 | 67 | .08 | 300
State Subtotal | 56 |  |  | 2,878
FACILITIES:
I-SATS Update² | 100 | 1 | .08 | 8
Pretest of N-SSATS revisions | 200 | 1 | .37 | 74
Augmentation Screener | 500 | 1 | .08 | 40
N-SSATS Questionnaire | 19,000 | 1 | .67 | 12,730
Mini N-SSATS | 700 | 1 | .4 | 280
Facility Subtotal | 20,500 |  |  | 13,132
TOTAL | 20,556 |  |  | 16,010
¹ States forward to SAMHSA information on newly licensed/approved facilities and on changes in facility name, address, status, etc. This is done electronically by nearly all States.
² Facilities forward to SAMHSA information on new facilities and on changes to existing facilities. This can be done by fax or e-mail.

Send comments to Summer King, SAMHSA Reports Clearance Officer, OAS, Room 7-1044, 1 Choke Cherry Road, Rockville, MD 20857. Written comments should be received by June 21, 2005.

Dated: April 15, 2005.
Anna Marsh,
Executive Officer, SAMHSA.

[FR Doc. 05-8093 Filed 4-21-05; 8:45 am]

BILLING CODE 4162-20-P